SECURITIES AND EXCHANGE COMMISSION

[Investment Company Act Release No. 34488]

Notice of Applications for Deregistration Under Section 8(f) of the Investment Company Act of 1940

January 28, 2022.

The following is a notice of applications for deregistration under section 8(f) of the Investment Company Act of 1940 for the month of January 2022. A copy of each application may be obtained via the Commission's website by searching for the file number, or for an applicant using the Company name box, at http://www.sec.gov/search/search.htm or by calling (202) 551-8090. An order granting each application will be issued unless the SEC orders a hearing. Interested persons may request a hearing on any application by emailing the SEC's Secretary at Secretarys-Office@sec.gov and serving the relevant applicant with a copy of the request by email, if an email address is listed for the relevant applicant below, or personally or by mail, if a physical address is listed for the relevant applicant below. Hearing requests should be received by the SEC by 5:30 p.m. on February 22, 2022, and should be accompanied by proof of service on applicants, in the form of an affidavit or, for lawyers, a certificate of service. Pursuant to Rule 0-5 under the Act, hearing requests should state the nature of the writer's interest, any facts bearing upon the desirability of a hearing on the matter, the reason for the request, and the issues contested. Persons who wish to be notified of a hearing may request notification by writing to the Commission's Secretary at Secretarys-Office@sec.gov.

ADDRESSES: The Commission: Secretarys-Office@sec.gov.

FOR FURTHER INFORMATION CONTACT: Shawn Davis, Assistant Director, at (202) 551-6413 or Chief Counsel's Office at (202) 551-6821; SEC, Division of Investment Management, Chief Counsel's Office, 100 F Street NE, Washington, DC 20549-8010.

Calvert High Income Term Trust [File No. 811-23587]

Summary: Applicant, a closed-end investment company, seeks an order declaring that it has ceased to be an investment company. Applicant has never made a public offering of its securities and does not propose to make a public offering or engage in business of any kind.

Filing Date: The application was filed on October 29, 2021.

Applicant's Address: jbeksha@eatonvance.com.

Cascades Trust [File No. 811-04626]

Summary: Applicant seeks an order declaring that it has ceased to be an investment company. The applicant has transferred its assets to Aquila Tax-Free Trust of Oregon, a series of Aquila Municipal Trust, and on June 26, 2020 made a final distribution to its shareholders based on net asset value. Expenses of $314,858 incurred in connection with the reorganization were paid by the applicant and the acquiring fund.

Filing Date: The application was filed on December 29, 2021.

Applicant's Address: info@aquilafunds.com.

Eaton Vance Income Opportunities Fund-MA [File No. 811-23572]

Summary: Applicant, a closed-end investment company, seeks an order declaring that it has ceased to be an investment company. Applicant has never made a public offering of its securities and does not propose to make a public offering or engage in business of any kind.

Filing Dates: The application was filed on October 29, 2021, and amended on January 12, 2022.

Applicant's Address: jbeksha@eatonvance.com.

NexPoint Event Driven Fund [File No. 811-23156]

Summary: Applicant, a closed-end investment company, seeks an order declaring that it has ceased to be an investment company. Applicant has never made a public offering of its securities and does not propose to make a public offering or engage in business of any kind.

Filing Date: The application was filed on October 14, 2021.

Applicant's Address: jon-luc.dupuy@klgates.com.

NB Crossroads Private Markets Fund VI Custody LP [File No. 811-23442]

Summary: Applicant, a closed-end investment company, seeks an order declaring that it has ceased to be an investment company. Applicant has never made a public offering of its securities and does not propose to make a public offering or engage in business of any kind.

Filing Dates: The application was filed on November 5, 2021, and amended on January 6, 2022.

Applicant's Address: corey.issing@nb.com.

Theseus U.S. Debt Fund [File No. 811-23453]

Summary: Applicant, a closed-end investment company, seeks an order declaring that it has ceased to be an investment company. Applicant has never made a public offering of its securities and does not propose to make a public offering or engage in business of any kind.

Filing Dates: The application was filed on September 21, 2021, and amended on January 14, 2022.

Applicant's Address: robert.robertson@dechert.com.

For the Commission, by the Division of Investment Management, pursuant to delegated authority.
J. Matthew DeLesDernier,
Assistant Secretary.

[FR Doc. 2022-02178 Filed 2-2-22; 8:45 am]

BILLING CODE 8011-01-P